DEPARTMENT OF ENERGY

Secretary of Energy Advisory Board

AGENCY: Department of Energy.

ACTION: Notice of open virtual meeting.

SUMMARY: This notice announces an open virtual meeting of the Secretary of Energy Advisory Board (SEAB). The Federal Advisory Committee Act (FACA) requires that public notice of these meetings be announced in the Federal Register.

DATES: Wednesday, October 16, 2024; 10:30-11:30 a.m. EDT.

ADDRESSES: This virtual meeting is open to the public. Registration is required by registering at the SEAB meeting page at: www.energy.gov/seab/seab-meetings.

FOR FURTHER INFORMATION CONTACT: David Borak, Designated Federal Officer; U.S. Department of Energy, 1000 Independence Avenue SW, Washington, DC 20585; Telephone: (202) 586-5216 or Email: seab@hq.doe.gov.

SUPPLEMENTARY INFORMATION:

Purpose of the Committee: The Board was established to provide advice and recommendations to the Secretary on the Administration's energy policies; the Department's basic and applied research and development activities; economic and national security policy; and other activities as directed by the Secretary.

Tentative Agenda: The meeting will start at 10:30 a.m. Eastern Time on October 16, 2024. The tentative meeting agenda includes: roll call, remarks from the SEAB chair, remarks from the Secretary, discussion of the SEAB report from the Tribal and Community Benefits working group, and public comment. The meeting will conclude at approximately 11:30 a.m. Meeting materials can be found here: www.energy.gov/seab/seab-meetings.

Public Participation: The meeting is open to the public virtually. Individuals who would like to attend must register for the meeting here: https://www.energy.gov/seab/seab-meetings.

Individuals and representatives of organizations who would like to offer comments and suggestions may do so during the meeting. Approximately 15 minutes will be reserved for public comments. Time allotted per speaker will depend on the number who wish to speak but will not exceed three minutes. The Designated Federal Officer is empowered to conduct the meeting in a fashion that will facilitate the orderly conduct of business. Those wishing to speak should register to do so via email, seab@hq.doe.gov, no later than 5 p.m. Eastern Time on Tuesday, October 15, 2024.

Those not able to attend the meeting or who have insufficient time to address the committee are invited to send a written statement to David Borak, U.S. Department of Energy, 1000 Independence Avenue SW, Washington, DC 20585, or email to: seab@hq.doe.gov.

Minutes: The minutes of the meeting will be available on the SEAB website at www.energy.gov/seab or by contacting David Borak at seab@hq.doe.gov.

Signing Authority: This document of the Department of Energy was signed on September 17, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 17, 2024.
Jennifer Hartzell,
Alternate Federal Register Liaison Officer, U.S. Department of Energy.

[FR Doc. 2024-21584 Filed 9-19-24; 8:45 am]

BILLING CODE 6450-01-P